DEPARTMENT OF AGRICULTURE

Federal Crop Insurance Corporation

Notice of Request for Approval of Information Collection

AGENCY: Risk Management Agency, USDA.

ACTION: New information collection; comment request.

SUMMARY: In accordance with the Paperwork Reduction Act of 1995, this notice announces a public comment period on the information collection requests (ICRs) associated with the Standard Reinsurance Agreement Plan of Operations administered by Federal Crop Insurance Corporation.

DATES: Written comments on this notice will be accepted until close of business April 22, 2002.

ADDRESSES: Interested persons are invited to submit written comments to the Director, Reinsurance Services Division, Federal Crop Insurance Corporation, United States Department of Agriculture (USDA), 1400 Independence Avenue SW., Stop 0804, Washington, DC 20250, or electronically to Heyward_Baker@wdc.usda.gov.

FOR FURTHER INFORMATION CONTACT: John H. Brown, Risk Management Specialist, Federal Crop Insurance Corporation, at the address listed above, telephone (202) 720-2099.

SUPPLEMENTARY INFORMATION: Title: Standard Reinsurance Agreement Plan of Operations.

OMB Number: 0563-NEW.

Type of Request: New information collection.

Abstract: The Federal Crop Insurance Act (Act), Title 7 U.S.C. Chapter 36 Section 1508(k) authorizes the Federal Crop Insurance Corporation (FCIC) to provide reinsurance to insurers approved by FCIC that insure producers of any agricultural commodity under one or more plans acceptable to FCIC. The Act also states that the reinsurance shall be provided on such terms and conditions as the Board may determine to be consistent with subsections (b) and (c) of this section and sound reinsurance principles.

FCIC executes the same form of reinsurance agreement, called the Standard Reinsurance Agreement (SRA), with eighteen participating insures approved for the 2002 program. In Appendix 2 of the SRA, the Plan of Operations (Plan) sets forth the information the insurer is required to file with RMA for the initial and each subsequent reinsurance year. The Plan's information enables RMA to evaluate the insurer's financial and operational capability to deliver the crop insurance program in accordance with the Act. Estimated premiums by fund by state, and retained percentages along with current policyholders surplus are used in calculations to approve the insurer's requested maximum reinsurable premium writings for the reinsurance year per 7 CFR 400 Subpart L. This information has a direct effect upon the insurer's amount of retained premium and associated liability and is required to calculate the insurer's underwriting gain or loss.

Manual 14, Guidelines and Expectations for Delivery of the Federal Crop Insurance Program, is incorporated into the SRA by reference. Manual 14 establishes the minimum Training and quality control review procedures and performance standards required of all insurers who deliver any policy reinsured under the Act. In order to evaluate their compliance with the terms of the SRA, FCIC requires each insurer to submit, for each reinsurance year, an Annual Summary Report to Compliance containing details of the results of their completed reviews classified into four categories: Proficiency Evaluations, Compliance Crop Insurance Contract Reviews, Underwriting Reviews, and Claims Reviews.

We are asking the Office of Management and Budget (OMB) to approve this information collection activity for 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 465 hours per response.

Respondents/Affected Entities: Insurance companies reinsured by FCIC.

Estimated annual number of respondents: 18.

Estimated annual number of responses per respondent: 1.

Estimated annual number of responses: 18.

Estimated total annual burden on respondents(hours): 8,370.

All responses to this notice will be summarized and included in the request for OMB approval. All comments will also become a matter of public record.

Signed in Washington, D.C., on February 7, 2002.
Phyllis W. Honor,
Acting Manager, Federal Crop Insurance Corporation.

[FR Doc. 02-4101 Filed 2-20-02; 8:45 am]

BILLING CODE 3410-FA-P